DEPARTMENT OF TRANSPORTATION

Federal Aviation Administration

14 CFR Part 39

[Docket No. FAA-2013-0834; Directorate Identifier 2012-NM-045-AD]

RIN 2120-AA64

Airworthiness Directives; Airbus Airplanes

AGENCY: Federal Aviation Administration (FAA), DOT.

ACTION: Supplemental notice of proposed rulemaking (NPRM); reopening of comment period.

SUMMARY: We are revising an earlier proposed Airworthiness Directive (AD) for certain Airbus Model A330 series airplanes. The NPRM proposed to require revising the maintenance program or inspection program, as applicable, to incorporate certain maintenance requirements and airworthiness limitations. The NPRM was prompted by a determination that more restrictive maintenance requirements and airworthiness limitations are necessary. This action revises the NPRM by proposing to supersede AD 2007-05-12, AD 2009-18-20, and AD 2010-15-02 in addition to those ADs already identified in the NPRM, as well as to require more restrictive limitations and to add Airbus Model A330-323 airplanes to the applicability. We are proposing this supplemental NPRM (SNPRM) to address the aging effects of aircraft systems. Such aging effects could change the characteristics of those systems, which, in isolation or in combination with one or more other specific failures or events, could result in failure of certain life limited parts, which could reduce the structural integrity of the airplane or reduce the controllability of the airplane. Since these actions impose an additional burden over those proposed in the NPRM, we are reopening the comment period to allow the public the chance to comment on these proposed changes.

DATES: We must receive comments on this SNPRM by April 23, 2015.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov/#!docketDetail;D=FAA-2013-0834 or in person at the Docket Management Facility between 9 a.m. and 5 p.m., Monday through Friday, except Federal holidays. The AD docket contains this proposed AD, the regulatory evaluation, any comments received, and other information. The street address for the Docket Office (telephone: (800) 647-5527) is in the ADDRESSES section. Comments will be available in the AD docket shortly after receipt. It is also available on the Internet at http://www.regulations.gov by searching for and locating Docket No. FAA-2013-0834.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2013-0834; Directorate Identifier 2012-NM-045-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Related Service Information Under 1 CFR Part 51

Airbus issued A330 Airworthiness Limitations Section (ALS) Part 4—Aging Systems Maintenance, Revision 04, dated August 27, 2013, and Airbus A330 ALS Part 4—Aging Systems Maintenance (ASM), Variation 4.1 and Variation 4.2, both dated July 23, 2014. This service information describes preventative maintenance requirements and associated airworthiness limitations applicable to aircraft systems susceptible to aging effects. The actions described in this service information are intended to correct the unsafe condition identified in the MCAI. This service information is reasonably available; see ADDRESSES for ways to access this service information.

Discussion

On February 22, 2007, we issued AD 2007-05-12, Amendment 39-14973 (72 FR 10057, March 7, 2007), for certain Airbus Model A330, A340-200, and A340-300 series airplanes. AD 2007-05-12 requires inspecting to determine the part number of certain spoiler servo controls (SSCs) and replacing any affected SSC with a new SSC. AD 2007-05-12 resulted from a determination of a new load duty cycle defined by the manufacturer. We issued AD 2007-05-12 to prevent fatigue cracking of certain SSCs, which could result in hydraulic leakage and consequent loss of SSC function and loss of the associated hydraulic system. These conditions could affect all three hydraulic systems, which could result in reduced controllability of the airplane.

On August 26, 2009, we issued AD 2009-18-20, Amendment 39-16017 (74 FR 46313, September 9, 2009), for certain Airbus Model A330-300, A340-200, and A340-300 series airplanes. AD 2009-18-20 requires identification and modification of certain SSCs. AD 2009-18-20 resulted from a report of a failure of a SSC whose maintenance cover had ruptured due to pressure pulse fatigue. We issued AD 2009-18-20 to prevent the loss of a hydraulic system due to leakage; loss of three hydraulic systems could result in reduced controllability of the airplane.

On June 30, 2010, we issued AD 2010-15-02, Amendment 39-16368 (75 FR 42589, July 22, 2010), for certain Airbus Model A330-200 and -300 series airplanes, and A340-200, -300, -500, and -600 series airplanes. AD 2010-15-02 requires repetitive detailed visual inspections for corrosion and wear detection of the input gear boxes (IPGBs) and down drive shafts (DDSs) on the flap tracks on both wings, and corrective actions, as applicable. AD 2010-15-02 resulted from reports of corrosion and damage on the DDSs and IPGBs on the flap tracks. We issued AD 2010-15-02 to detect and correct corrosion and wear due to absence of grease in the spline interfaces which could cause DDS disconnection and result in a free movable flap surface, potentially leading to aircraft asymmetry or even flap detachment, and reduce the ability of the flightcrew to maintain the safe flight and landing of the airplane.

We issued an NPRM to amend 14 CFR part 39 by adding an AD that would apply to certain Airbus Model A330 series airplanes. The NPRM published in the Federal Register on November 7, 2013 (78 FR 66861).

The NPRM proposed to supersede AD 2003-14-11, Amendment 39-13230 (68 FR 41521, July 14, 2003); AD 2004-11-08, Amendment 39-13654 (69 FR 31874, June 8, 2004); AD 2004-13-25, Amendment 39-13707 (69 FR 41394, July 9, 2004); AD 2004-18-14, Amendment 39-13793 (69 FR 55326, September 14, 2004); AD 2008-06-07, Amendment 39-15419 (73 FR 13103, March 12, 2008; corrected April 15, 2008 (73 FR 20367)); and AD 2012-04-07, Amendment 39-16963 (77 FR 12989, March 5, 2012) to require actions intended to address the aging effects of aircraft systems. Such aging effects could change the characteristics of those systems, which, in isolation or in combination with one or more other specific failures or events, could result in failure of certain life limited parts, which could reduce the structural integrity of the airplane or reduce the controllability of the airplane.

Actions Since the NPRM (78 FR 66861, November 7, 2013) Was Issued

Since we issued the NPRM (78 FR 66861, November 7, 2013), we received Airbus A330 Airworthiness Limitations Section (ALS) Part 4—Aging Systems Maintenance, Revision 04, dated August 27, 2013, and Airbus A330 ALS Part 4—Aging Systems Maintenance (ASM), Variation 4.1 and Variation 4.2, both dated July 23, 2014, which contain more restrictive maintenance requirements. We determined that more restrictive maintenance requirements and airworthiness limitations are necessary and that Airbus Model A330-323 airplanes need to be added to the applicability of this AD in order to address the unsafe condition.

The European Aviation Safety Agency (EASA) which is the Technical Agent for the Member States of the European Union, also issued new EASA AD 2013-0268, dated November 7, 2013 (referred to after this as the Mandatory Continuing Airworthiness Information, or “the MCAI”), to correct an unsafe condition on certain Airbus Model A330 series airplanes. EASA AD 2013-0268 supersedes and retains the requirements of four EASA ADs and requires accomplishment of the actions specified in Airbus A330 Airworthiness Limitations Section (ALS) Part 4—Aging Systems Maintenance, Revision 04, dated August 27, 2013. The MCAI states:

The airworthiness limitations for Airbus aeroplanes are currently published in Airworthiness Limitations Section (ALS) documents.

The airworthiness limitations applicable to the Ageing Systems Maintenance (ASM) are given in Airbus A330 ALS Part 4, which is approved by EASA.

Revision 04 of Airbus A330 ALS Part 4 introduces more restrictive maintenance requirements and/or airworthiness limitations. Failure to comply with these instructions could result in an unsafe condition.

For the reason described above, this [EASA] AD retains the requirements of EASA AD 2012-0020, which is superseded, and requires accomplishment of the actions specified in Airbus A330 ALS Part 4 at Revision 04.

In addition, this [EASA] AD also supersedes EASA AD 2006-0159, EASA AD 2008-0026, and EASA AD 2008-0160 [which correspond to FAA ADs 2007-05-12, Amendment 39-14973 (72 FR 10057, March 7, 2007); 2010-15-02, Amendment 39-16368 (75 FR 42589, July 22, 2010); and 2009-18-20, Amendment 39-16017 (74 FR 46313, September 9, 2009), respectively], whose requirements applicable to A330 aeroplanes have been transferred into Airbus A330 ALS Part 4.

The unsafe condition is the aging effects of aircraft systems. Such aging effects could change the characteristics of those systems, which, in isolation or in combination with one or more other specific failures or events, could result in failure of certain life limited parts, which could reduce the structural integrity of the airplane or reduce the controllability of the airplane. You may examine the MCAI in the AD docket on the Internet at http://www.regulations.gov by searching for and locating it in Docket No. FAA-2013-0834.

Related Rulemaking

We have issued AD 2014-23-17, Amendment 18033 (79 FR 71304, December 2, 2014) for Airbus Model A340-211, -212, -213, -311, -312, -313, -541, and -642 airplanes. AD 2014-23-17 terminates the requirements of the following ADs for Airbus Model A340-211, -212, -213, -311, -312, -313, -541, and -642 airplanes.

• AD 2003-14-11, Amendment 39-13230 (68 FR 41521, July 14, 2003);

• AD 2004-11-08, Amendment 39-13654 (69 FR 31874, June 8, 2004);

• AD 2004-13-25, Amendment 39-13707 (69 FR 41394, July 9, 2004);

• AD 2004-18-14, Amendment 39-13793 (69 FR 55326, September 14, 2004);

• AD 2007-05-12, Amendment 39-14973 (72 FR 10057, March 7, 2007);

• AD 2008-06-07, Amendment 39-15419 (73 FR 13103, March 12, 2008; corrected April 15, 2008 (73 FR 20367));

• AD 2009-18-20, Amendment 39-16017 (74 FR 46313, September 9, 2009);

• AD 2010-15-02, Amendment 39-16368 (75 FR 42589, July 22, 2010); and

• AD 2012-04-07, Amendment 39-16963 (77 FR 12989, March 5, 2012).

Comments

We gave the public the opportunity to participate in developing this proposed AD. We have considered the comment received on the NPRM (78 FR 66861, November 7, 2013) and the FAA's response to each comment.

Request To Add Airplane Model to the Applicability

Delta Airlines (Delta) requested that we add Airbus Model A330-323 airplanes to paragraph (c), “Applicability,” of the NPRM (78 FR 66861, November 7, 2013).

We agree. Airbus Model A330-323 airplanes were erroneously omitted from the applicability. We have revised the applicability of this proposed AD to add these airplanes.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

This proposed AD would retain none of the requirements of the following ADs:

• AD 2007-05-12, Amendment 39-14973 (72 FR 10057, March 7, 2007);

• AD 2009-18-20, Amendment 39-16017 (74 FR 46313, September 9, 2009); and

• AD 2010-15-02, Amendment 39-16368 (75 FR 42589, July 22, 2010).

This proposed AD would require implementation of certain maintenance requirements and airworthiness limitations and adding Airbus Model A330-323 airplanes to the applicability. Certain changes described above expand the scope of the NPRM (78 FR 66861, November 7, 2013). As a result, we have determined that it is necessary to reopen the comment period to provide additional opportunity for the public to comment on this SNPRM.

Differences Between This SNPRM and the Service Information

This SNPRM proposes to incorporate Airbus A330 ALS Part 4—Aging Systems Maintenance, Revision 04, dated August 27, 2013, including the compliance times for the actions. However, the compliance times for certain initial actions are different from those specified in Airbus A330 ALS Part 4—Aging Systems Maintenance, Revision 04, dated August 27, 2013, because the actions and associated compliance times are required by AD 2009-18-20, Amendment 39-16017 (74 FR 46313, September 9, 2009). Therefore, the initial compliance time for these actions is relative to the effective date of the applicable superseded AD, as specified in paragraphs (h)(5), (h)(6), and (h)(7) of this SNPRM.

The MCAI specifies that if there are findings from the ALS inspection tasks, corrective actions must be accomplished in accordance with Airbus maintenance documentation. However, this AD does not include that requirement. Operators of U.S.-registered airplanes are required by general airworthiness and operational regulations to perform maintenance using methods that are acceptable to the FAA. We consider those methods to be adequate to address any corrective actions necessitated by the findings of ALS inspections required by this AD.

Costs of Compliance

We estimate that this SNPRM affects 79 airplanes of U.S. registry.

We estimate that it would take about 2 work-hours per product to comply with the new basic requirements of this SNPRM. The average labor rate is $85 per work-hour. Required parts would cost $0 per product. Based on these figures, we estimate the cost of this SNPRM on U.S. operators to be $13,430, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by

a. Removing Airworthiness Directive (AD) 2003-14-11, Amendment 39-13230 (68 FR 41521, July 14, 2003); AD 2004-11-08, Amendment 39-13654 (69 FR 31874, June 8, 2004); AD 2004-13-25, Amendment 39-13707 (69 FR 41394, July 9, 2004); AD 2004-18-14, Amendment 39-13793 (69 FR 55326, September 14, 2004); AD 2007-05-12, Amendment 39-14973 (72 FR 10057, March 7, 2007); AD 2008-06-07, Amendment 39-15419 (73 FR 13103, March 12, 2008; corrected April 15, 2008 (73 FR 20367)); AD 2009-18-20, Amendment 39-16017 (74 FR 46313, September 9, 2009); AD 2010-15-02, Amendment 39-16368 (75 FR 42589, July 22, 2010); AD 2012-04-07, Amendment 39-16963 (77 FR 12989, March 5, 2012); and

b. Adding the following new AD:

Airbus: Docket No. FAA-2013-0834; Directorate Identifier 2012-NM-045-AD.

(a) Comments Due Date

We must receive comments by April 23, 2015.

(b) Affected ADs

This AD supersedes the ADs specified in paragraphs (b)(1) through (b)(9) of this AD.

(1) AD 2003-14-11, Amendment 39-13230 (68 FR 41521, July 14, 2003).

(2) AD 2004-11-08, Amendment 39-13654 (69 FR 31874, June 8, 2004).

(3) AD 2004-13-25, Amendment 39-13707 (69 FR 41394, July 9, 2004).

(4) AD 2004-18-14, Amendment 39-13793 (69 FR 55326, September 14, 2004).

(5) AD 2007-05-12, Amendment 39-14973 (72 FR 10057, March 7, 2007).

(6) AD 2008-06-07, Amendment 39-15419 (73 FR 13103, March 12, 2008; corrected April 15, 2008 (73 FR 20367)).

(7) AD 2009-18-20, Amendment 39-16017 (74 FR 46313, September 9, 2009).

(8) AD 2010-15-02, Amendment 39-16368 (75 FR 42589, July 22, 2010).

(9) AD 2012-04-07, Amendment 39-16963 (77 FR 12989, March 5, 2012).

(c) Applicability

This AD applies to Airbus Model A330-201, -202, -203, -223, -243, -223F, -243F, -301, -302, -303, -321, -322, -323, -341, -342, and -343 airplanes; certificated in any category; all manufacturer serial numbers.

(d) Subject

Air Transport Association (ATA) of America Code 05, Time Limits/Maintenance Checks.

(e) Unsafe Condition

This AD was prompted by a determination that more restrictive maintenance requirements and airworthiness limitations are necessary. We are issuing this AD to address the aging effects of aircraft systems. Such aging effects could change the characteristics of those systems, which, in isolation or in combination with one or more other specific failures or events, could result in failure of certain life limited parts, which could reduce the structural integrity of the airplane or reduce the controllability of the airplane.

(f) Compliance

Comply with this AD within the compliance times specified, unless already done.

(g) Maintenance Program Revision and Actions

Within 6 months after the effective date of this AD, revise the maintenance program or inspection program, as applicable, by incorporating Airbus A330 Airworthiness Limitations Section (ALS) Part 4—Aging Systems Maintenance, Revision 04, dated August 27, 2013, and Airbus A330 ALS Part 4—Aging Systems Maintenance (ASM), Variation 4.1 and Variation 4.2, both dated July 23, 2014. The initial compliance times for the actions are within the applicable compliance times specified in the Record of Revisions pages of Airbus A330 ALS Part 4—Aging Systems Maintenance, Revision 04, dated August 27, 2013, Airbus A330 ALS Part 4—Aging Systems Maintenance (ASM), Variation 4.1 and Variation 4.2, both dated July 23, 2014, or within 6 months after the effective date of this AD, whichever is later, except as required by paragraph (h) of this AD.

(h) Exceptions to Initial Compliance Times

(1) Where Airbus A330 ALS Part 4—Aging Systems Maintenance, Revision 04, dated August 27, 2013, defines a calendar compliance time for elevator servo-controls having part number (P/N) SC4800-2, SC4800-3, SC4800-4, SC4800-6, SC4800-7, or SC4800-8 as “August 31, 2004,” the calendar compliance time is June 13, 2007 (34 months after August 13, 2004 (the effective date of AD 2004-13-25, Amendment 39-13707 (69 FR 41394, July 9, 2004))).

(2) Where Airbus A330 ALS Part 4—Aging Systems Maintenance, Revision 04, dated August 27, 2013, defines a calendar compliance time for spoiler servo-controls (SSCs) having P/N 1386A0000-01, P/N 1386B0000-01, P/N 1387A0000-01 or P/N 1387B0000-01 as “December 31, 2003,” the calendar compliance time is November 19, 2005 (13 months after October 19, 2004 (the effective date of AD 2004-18-14, Amendment 39-13793 (69 FR 55326, September 14, 2004))).

(3) Where Airbus A330 ALS Part 4—Aging Systems Maintenance, Revision 04, dated August 27, 2013, defines a calendar compliance time for elevator servo-controls having P/N SC4800-73, SC4800-93, SC4800-103 and SC4800-113 as “June 30, 2008,” the calendar compliance time is September 16, 2009 (17 months after April 16, 2008 (the effective date of AD 2008-06-07, Amendment 39-15419 (73 FR 13103, March 12, 2008; corrected April 15, 2008 (73 FR 20367)))).

(4) The initial compliance time for replacement of the retraction brackets of the main landing gear (MLG) having a part number specified in paragraphs (h)(4)(i) through (h)(4)(xvi) of this AD is before the accumulation of 19,800 total landings on the affected retraction brackets of the MLG, or within 900 flight hours after April 9, 2012 (the effective date of AD 2012-04-07, Amendment 39-16963 (77 FR 12989, March 5, 2012), whichever occurs later.

(i) 201478303

(ii) 201478304

(iii) 201478305

(iv) 201478306

(v) 201478307

(vi) 201478308

(vii) 201428380

(viii) 201428381

(ix) 201428382

(x) 201428383

(xi) 201428384

(xii) 201428385

(xiii) 201428378

(xiv) 201428379

(xv) 201428351

(xvi) 201428352

(5) Where Airbus A330 ALS Part 4—Aging Systems Maintenance, Revision 04, dated August 27, 2013, defines a calendar compliance time for the modification of SSCs on three hydraulic circuits having part numbers MZ4339390-01X, MZ4306000-01X, MZ4339390-02X, MZ4306000-02X, MZ4339390-10X, or MZ4306000-10X as “March 5, 2010,” the calendar compliance time is April 14, 2011 (18 months after October 14, 2009 (the effective date of AD 2009-18-20, Amendment 39-16017 (74 FR 46313, September 9, 2009))).

(6) Where Note (6) of “ATA 27-64-00 Flight Control—Spoiler Hydraulic Actuation,” of Sub-part 4-2-1, “Life Limits,” of Sub-part 4-2, “Systems Life Limited Components,” of Airbus A330 ALS Part 4—Aging Systems Maintenance, Revision 04, dated August 27, 2013, defines a calendar date of “September 5, 2008,” as a date for the determination of accumulated flight cycles since the aircraft initial entry into service, the date is October 14, 2009 (the effective date of AD 2009-18-20, Amendment 39-16017 (74 FR 46313, September 9, 2009)).

(7) Where Note (6) of “ATA 27-64-00 Flight Control—Spoiler Hydraulic Actuation,” of Sub-part 4-2-1, “Life Limits,” of Sub-part 4-2, “Systems Life Limited Components,” of Airbus A330 ALS Part 4—Aging Systems Maintenance, Revision 04, dated August 27, 2013, defines a calendar compliance time as “March 5, 2010,” for the modification of affected servo controls, the calendar compliance time is April 14, 2011 (18 months after October 14, 2009 (the effective date of AD 2009-18-20, Amendment 39-16017 (74 FR 46313, September 9, 2009))).

(i) No Alternative Actions or Intervals

After accomplishing the revision required by paragraph (g) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-ACO-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) European Aviation Safety Agency (EASA) AD 2013-0268, dated November 7, 2013, for related information. You may examine the MCAI in the AD docket on the Internet at http://www.regulations.gov/#!documentDetail;D=FAA-2013-0834-0003.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on February 20, 2015.
Victor Wicklund,
Acting Manager, Transport Airplane Directorate, Aircraft Certification Service.

[FR Doc. 2015-05031 Filed 3-6-15; 8:45 am]

BILLING CODE 4910-13-P